INTERNATIONAL TRADE COMMISSION

[Inv. No. 337-TA-545]

In the Matter of Certain Laminated Floor Panels; Notice of a Commission Determination Not To Review an Initial Determination Amending the Complaint and Notice of Investigation

AGENCY: International Trade Commission.

ACTION: Notice.

SUMMARY: Notice is hereby given that the U.S. International Trade Commission has determined not to review an initial determination (“ID”) of the presiding administrative law judge (“ALJ”) granting the motion of complainants to amend the complaint and notice of investigation.

FOR FURTHER INFORMATION CONTACT: Michael K. Haldenstein, Esq., Office of the General Counsel, U.S. International Trade Commission, 500 E Street, SW., Washington, DC 20436, telephone (202) 205-3041. Copies of the public version of the ALJ's ID and all other nonconfidential documents filed in connection with this investigation are or will be available for inspection during official business hours (8:45 a.m. to 5:15 p.m.) in the Office of the Secretary, U.S. International Trade Commission, 500 E Street, SW., Washington, DC 20436, telephone 202-205-2000.

General information concerning the Commission may also be obtained by accessing its Internet server (http://www.usitc.gov). The public record for this investigation may be viewed on the Commission's electronic docket (EDIS-ON-LINE) at http://edis.usitc.gov. Hearing-impaired persons are advised that information on this matter can be obtained by contacting the Commission's TDD terminal on 202-205-1810.

SUPPLEMENTARY INFORMATION: The Commission instituted this investigation on August 3, 2005, based on a complaint filed by Unilin Beheer B.V. of the Netherlands, Flooring Industries Ltd. of Ireland, and Unilin Flooring N.C. LLC of Thomasville, North Carolina, 70 FR 44694 (2005).

The complaint alleged violations of section 337 in the importation into the United States, the sale for importation, and the sale within the United States after importation of certain laminated floor panels by reason of infringement of one or more of claims 1, 14, 17, 19, 20, 21, 37, 52, 65, and 66 of U.S. Patent No. 6,006,486, claims 1, 2, 10, 13, 18, 19, 22, 23, 24, and 27 of U.S. Patent No. 6,490,836, and claims 1-6 of U.S. Patent No. 6,874,292. The complaint further alleged that an industry in the United States exists as required by subsection (a)(2) of section 337. The complainants requested that the Commission issue a general exclusion order and cease and desist orders. The Commission named as respondents 30 companies located in Canada, China, Malaysia, and the United States. Id. The ALJ has set October 3, 2006, as the target date for completion of the investigation.

The ALJ issued the subject ID on September 19, 2005. The ID grants complainants' motion to add two respondents, Jiangsu Qianfeng Decoration Materials Co. Ltd. (QDM), of Jiangsu, China, and Hansol Homedeco (Hansol), of Seoul, South Korea. The ID also grants complainants' motion to add infringement of claims 1, 5, 13, 17, 27 and 28 of U.S. Patent No. 6,928,779 (the ‘779 patent). The ‘779 patent was issued on August 16, 2005. The ID also permits the complainants to add information concerning the existence of a domestic industry to the complaint. The ALJ states in the ID that “good cause” exists to permit these amendments to the complaint and notice of investigation because additional information was obtained by complainants after the complaint was filed.

The Commission investigative attorney supported the motion. No party opposed the motion. No petitions for review were filed.

This action is taken under the authority of section 337 of the Tariff Act of 1930, as amended, 19 U.S.C. 1337, and Commission rule 210.42, 19 CFR 210.42.

Issued: October 17, 2005.
By order of the Commission.
Marilyn R. Abbott,
Secretary to the Commission.

[FR Doc. 05-21110 Filed 10-20-05; 8:45 am]

BILLING CODE 7020-02-P